DEPARTMENT OF TRANSPORTATION

Federal Aviation Administration

14 CFR Part 145

[Docket No.: FAA-2016-8744; Amdt. No. 145-31]

RIN 2120-AK86

Repair Stations; Response to Public Comments

AGENCY: Federal Aviation Administration (FAA), DOT.

ACTION: Final rule; confirmation of effective date and response to public comments.

SUMMARY: This action confirms the effective date and adopts as final the interim final rule published on July 27, 2016, and responds to the comments received on that interim final rule. The rule removed the requirement that a repair station with an airframe rating provide suitable permanent housing to enclose the largest type and model aircraft listed on its operations specifications. The FAA also revised its general housing and facilities regulation to provide that a repair station's housing for its facilities, equipment, materials, and personnel must be consistent not only with its ratings, but also with its limitations to those ratings. Finally, the FAA added an additional general purpose limited rating to cover maintenance work not covered by the existing 12 limited rating categories.

DATES: Effective September 26, 2016.

ADDRESSES: For information on where to obtain copies of rulemaking documents and other information related to this action, see “How To Obtain Additional Information” in the SUPPLEMENTARY INFORMATION section of this document.

FOR FURTHER INFORMATION CONTACT: For technical questions concerning this action, contact Susan Traugott Ludwig, Aircraft Maintenance Division, Repair Station Branch, AFS-340, Federal Aviation Administration, 800 Independence Avenue SW., Washington, DC 20591; telephone (214) 587-8887; email susan.traugott.ludwig@faa.gov.

SUPPLEMENTARY INFORMATION:

Background

The FAA issued an interim final rule on July 15, 2016 (81 FR 49158) to revise its repair station rules to remove the one-size-fits-all requirement of § 145.103(b) and provide an additional limited rating category to cover work not addressed by the existing 12 categories. These actions will assist the repair station industry by eliminating the costly housing requirement that is not necessary in many cases.

Discussion of Comments

The FAA received two comments from the Aeronautical Repair Station Association (ARSA) and Airbus. ARSA stated that it fully supported the agency's actions as the regulations were unclear and needed to be updated. ARSA noted that although the changed rule still does not distinguish between repair stations working on completed aircraft and those working on airframe components, the removal of specified housing for airframe ratings will certainly allow for performance-based compliance. ARSA also requested the FAA consider removing § 145.61(b) in its entirety. ARSA asserted that it seems the language in § 145.61(a) alone would be sufficient to ensure appropriate ratings and limitations could be determined without the list in § 145.61(b). ARSA stated the reinstitution of paragraph (b)(13) is merely a specific acknowledgement of the general language in § 145.61(a). ARSA also specifically requested that the agency not deem its observation as opposition to the interim final rule, rather, a suggestion for consideration.

The FAA agrees with ARSA's comment that the removal of specified airframe rated housing requirements will allow for performance-based compliance. The FAA notes ARSA's suggestion to remove § 145.61(b) in its entirety and may consider it in a future rulemaking effort. Airbus requested clarification on the correct title for § 145.205, Maintenance, preventive maintenance, and alterations performed for certificate holders under parts 121, 125, and 135, and for foreign persons operating a U.S.-registered aircraft in common carriage under part 129. Airbus noted the word “performed” is spelled “per-formed” in the interim final rule and spelled “performed” in the electronic Code of Regulations (eCFR). Airbus asked which format was correct.

The FAA notes the title in the eCFR is correct.

Conclusion

After consideration of the comments submitted in response to the interim final rule, the FAA has determined that no further rulemaking action is necessary. Therefore, amendment No. 145-31 remains in effect.

How To Obtain Additional Information

A. Rulemaking Documents

An electronic copy of a rulemaking document my be obtained by using the Internet—

1. Search the Federal eRulemaking Portal (http://www.regulations.gov);

2. Visit the FAA's Regulations and Policies Web page at http://www.faa.gov/regulations_policies/ or

3. Access the Government Printing Office's Web page at http://www.gpo.gov/fdsys/.

Copies may also be obtained by sending a request (identified by notice, amendment, or docket number of this rulemaking) to the Federal Aviation Administration, Office of Rulemaking, ARM-1, 800 Independence Avenue SW., Washington, DC 20591, or by calling (202) 267-9680.

B. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

C. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA on the Internet, visit http://www.faa.gov/regulations_policies/rulemaking/sbre_act/.

Accordingly, the interim rule published July 15, 2016 (81 FR 49158), is adopted as final without change.

Issued under authority provided by 49 U.S.C. 106(f), 44701(a), and 44703 in Washington, DC, on September 21, 2016.
Lirio Liu,
Director, Office of Rulemaking.

[FR Doc. 2016-23121 Filed 9-23-16; 8:45 am]

BILLING CODE 4910-13-P